NATIONAL CREDIT UNION ADMINISTRATION

Agency Information Collection Activities: Submission to OMB for Reinstatement, Without Change, of a Previously Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public. NCUA requires the collection of electronic funds transfer information to maintain its vendor (credit union) records to make electronic payments to credit unions when required.

DATES: Comments will be accepted until October 28, 2013.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOPRA@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

NCUA is reinstating the collection for OMB No. 3133-0135 without amendment. NCUA will use the provided information to maintain current electronic funds transfer data for its vendor (credit union) electronic routing and transit data database to enable transmittal of funds and payments. If this information is not collected, NCUA will not be able to make payments electronically to credit unions through the Automated Clearing House (ACH) and would not be able to comply with the Debt Collection Improvement Act of 1996.

The NCUA requests that you send your comments on this collection to the location listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Title: National Credit Union Administration Authorization Agreement for Electronic Funds Transfer (EFT) Payments.

OMB Number: 3133-0135.

Form Number: None.

Type of Review: Reinstatement, without change, of a previously approved collection.

Description: NCUA will use the provided information to maintain current electronic funds transfer data for its vendor (credit union) electronic routing and transit data database to enable transmittal of funds and payments. If this information is not collected, NCUA will not be able to make payments electronically to credit unions through the ACH. NCUA needs this information to comply with the Debt Collection Improvement Act which has a provision concerning the use of EFT payments.

Respondents: All Federally Insured Credit Unions.

Estimated Number of Annual Respondents/Recordkeepers: 500.

Estimated Burden Hours per Response: 15 minutes (¼ hour).

Frequency of Response: Other (one-time).

Estimated Total Annual Burden Hours: 125 hours.

Estimated Total Annual Cost: $4,210.

By the National Credit Union Administration Board on September 20, 2013.
Gerard Poliquin,
Secretary of the Board.

[FR Doc. 2013-23466 Filed 9-25-13; 8:45 am]

BILLING CODE 7535-01-P